DEPARTMENT OF STATE

[Public Notice 5388]

Renewal of Charter of Advisory Committee on International Law

SUMMARY: The Charter of the Department of State's Advisory Committee on International Law (ACIL) has been renewed for an additional two years.

The Charter of the Advisory Committee on International Law is being renewed for a two-year period. Through this Committee, the Department of State will continue to obtain the views and advice of a cross-section of the country's outstanding members of the legal profession on significant issues of international law. The Committee's consideration of these legal issues in the conduct of our foreign affairs provides a unique contribution to the creation and promotion of U.S. foreign policy. The Committee comprises all former Legal Advisers of the Department of State and up to twenty individuals appointed by the current Legal Adviser.

FOR FURTHER INFORMATION CONTACT: Judith L. Osborn, Executive Director, Office of the Assistant Legal Adviser for United Nations Affairs, 202-647-2767 or osbornjl@state.gov.

Judith L. Osborn,
Attorney-Adviser, Office of United Nations Affairs, Office of the Legal Adviser, Executive Director, Advisory, Committee on International Law, Department of State.

[FR Doc. E6-7337 Filed 5-12-06; 8:45 am]

BILLING CODE 4710-08-P